NUCLEAR REGULATORY COMMISSION

[NRC-2023-0079]

Proposed Revision to Standard Review Plan Section 15.0, “Introduction—Transient and Accident Analyses”

AGENCY: Nuclear Regulatory Commission.

ACTION: Standard review plan-draft section revision; reopening of comment period.

SUMMARY: On August 2, 2023, the U.S. Nuclear Regulatory Commission (NRC) solicited comments on Draft NUREG-0800, “Standard Review Plan for the Review of Safety Analysis Reports for Nuclear Power Plants: LWR Edition,” Section 15.0, Revision 4, “Introduction—Transient and Accident Analyses.” The public comment period closed on October 2, 2023. The NRC has decided to reopen the public comment period for this document for 30 days to allow more time for members of the public to develop and submit comments.

DATES: The comment period for the document published on August 2, 2023 (88 FR 50918) has been reopened. Comments should be filed no later than November 3, 2023. Comments received after this date will be considered, if it is practical to do so, but the Commission is able to ensure consideration only for comments received on or before this date.

ADDRESSES: You may submit comments by any of the following methods; however, the NRC encourages electronic comment submission through the Federal rulemaking website:

• Federal rulemaking website: Go to https://www.regulations.gov and search for Docket ID NRC-2023-0079. Address questions about Docket IDs in Regulations.gov to Stacy Schumann; telephone: 301-415-0624; email: Stacy.Schumann@nrc.gov. For technical questions, contact the individual listed in the “For Further Information Contact” section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Carla Roque-Cruz, Office of Nuclear Reactor Regulation, telephone: 301-415-14; email: Carla.Roque-Cruz@nrc.gov, Ekaterina Lenning, Office of Nuclear Reactor Regulation, telephone: 301-415-3151, email: Ekaterina.Lenning@nrc.gov and Brent Ballard, Office of Nuclear Reactor Regulation, telephone: 301-415-0680, email: Brent.Ballard@nrc.gov. All are staff of the U.S. Nuclear Regulatory Commission, Washington, DC 20555-0001.

SUPPLEMENTARY INFORMATION:

I. Submitting Comments

A. Obtaining Information

Please refer to Docket ID NRC-2023-0079 when contacting the NRC about the availability of information for this action. You may obtain publicly available information related to this action by any of the following methods:

• Federal Rulemaking website: Go to https://www.regulations.gov and search for Docket ID NRC-2023-0079.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The draft SRP Section 15.0, Revision 4, “Introduction—Transient and Accident Analyses” is available in ADAMS under Accession No. ML22319A149.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2023-0079 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On August 2, 2023, the NRC solicited comments on Draft NUREG 0800, “Standard Review Plan for the Review of Safety Analysis Reports for Nuclear Power Plants: LWR Edition,” Section 15.0, Revision 4, “Introduction—Transient and Accident Analyses.” The NRC sought comments on the proposed draft section revision of the Standard Review Plan (SRP), concerning the evaluation of the safety of a nuclear power plant that requires analyses of the plant's responses to postulated equipment failures or malfunctions. The public comment period closed on October 2, 2023 (88 FR 50918). The NRC has decided to reopen the public comment period for this document for 30 days to allow more time for members of the public to develop and submit comments. Comments must be submitted no later than November 3, 2023. Comments received after this date will be considered, if it is practical to do so, but the Commission is able to ensure consideration only for comments received on or before this date.

Dated: September 29, 2023.
For the Nuclear Regulatory Commission.
Gerond A. George,
Chief, Licensing Project Branch, Division of Operating Reactors, Office of Nuclear Reactor Regulation.

[FR Doc. 2023-22052 Filed 10-3-23; 8:45 am]

BILLING CODE 7590-01-P